DEPARTMENT OF HOMELAND SECURITY

Coast Guard

[Docket No. USCG-2007-0055, formerly CGD08-07-029]

Lower Mississippi River Safety Advisory Committee; Vacancies

AGENCY: Coast Guard, DHS.

ACTION: Request for applications; extension of application deadline.

SUMMARY: The Coast Guard extends the deadline for applications for membership in the Lower Mississippi River Safety Advisory Committee. This Committee advises and makes recommendations to the Coast Guard on matters relating to navigation safety on the Lower Mississippi River.

DATES: Application forms should reach us on or before February 28, 2008.

ADDRESSES: You may request an application form by writing U.S. Coast Guard, Sector New Orleans, Attn: Waterways Management, 1615 Poydras Street, New Orleans, LA 70112-2711 or by calling 504-565-5108. Send your application in written form to the above street address. A copy of this notice and the application form are available in our online docket, CGD08-07-029, at http://frwebgate.access.gpo.gov/cgi-bin/leaving.cgi?from=leavingFR.html&log=linklog&to=http://regulations.gov.

FOR FURTHER INFORMATION CONTACT: LTJG Tonya Harrington, Assistant to Executive Director of Lower Mississippi River Waterway Safety Advisory Committee at 504-565-5108.

SUPPLEMENTARY INFORMATION: On October 30, 2007, we published a request in the Federal Register (72 FR 61362) for applications for membership in the Lower Mississippi River Safety Advisory Committee. The deadline for applications announced in that notice is being extended until February 28, 2008. If you applied in response to the initial notice, you do not need to send another application form.

The Lower Mississippi River Waterway Safety Advisory Committee is a Federal advisory committee under 5 U.S.C. App. (Pub. L. 92-463). This committee provides local expertise on communication, surveillance, traffic control, anchorages, aids to navigation and other topics relating to navigational safety on the Lower Mississippi River to the Coast Guard.

The Committee meets at least four times a year in the New Orleans area. It may also meet for extraordinary purposes. Its subcommittees and working groups may meet to consider specific problems as required.

We will consider applications for twenty-four positions that expire or become vacant on May 30, 2008. To be eligible you should have expertise in navigation safety, waterways management, vessel traffic service and management, shipboard operations or facility operations.

Each member serves for a term of 2 years. A few members may serve consecutive terms. All members serve at their own expense and receive no salary, reimbursement of travel expenses, or any other compensation from the Federal Government.

Vacancies to be filled are for:

(1) Five members representing River Port Authorities between Baton Rouge, Louisiana, and the Head of Passes of the Lower Mississippi River, of which one member shall be from the Port of St. Bernard and one member from the Port of Plaquemines.

(2) Two members representing vessel owners or ship owners domiciled in the State of Louisiana.

(3) Two members representing organizations that operate harbor tugs or barge fleets in the geographical area covered by the Committee.

(4) Two members representing companies which transport cargo or passengers on the navigable waterways in the geographical area covered by the Committee.

(5) Three members representing State Commissioned Pilot organizations, with one member each representing the New Orleans/Baton Rouge Steamship Pilots Association, and the Associated Branch Pilots Association.

(6) Two at-large members who utilize water transportation facilities located in the geographical area covered by the Committee.

(7) Three members representing consumers, shippers, or importers/exporters that utilize vessels that operate on the navigable waterways covered by the Committee.

(8) Two members representing those licensed merchant mariners, other than pilots, who perform shipboard duties on vessels which utilize the navigable waterways covered by the Committee.

(9) One member representing an organization that serves in a consulting or advisory capacity to the maritime industry.

(10) One member representing an environmental organization.

(11) One member representing the general public.

In support of the policy of the Coast Guard on gender and ethnic diversity, we encourage qualified women and members of minority groups to apply.

If you are selected as a member who represents the general public, we will require you to complete a Confidential Financial Disclosure Report (OGE Form 450). We may not release the report or the information in it to the public, except under an order issued by a Federal court or as otherwise provided under the Privacy Act (5 U.S.C. 552a).

Dated: January 9, 2007.
J.H. Horn,
Captain, U.S. Coast Guard, Commander, 8th Coast Guard District, Acting.

[FR Doc. E8-1564 Filed 1-28-08; 8:45 am]

BILLING CODE 4910-15-P